DEPARTMENT OF ENERGY

Federal Energy Regulatory Commission

Combined Notice of Filings #2

Take notice that the Commission received the following electric rate filings:

Docket Numbers: ER10-1514-001; ER11-2741-003.

Applicants: CPV Keenan II Renewable Energy Company, CPV Batesville, LLC.

Description: Notice of Change in Facts of CPV Keenan II Renewable Energy Company, LLC and CPV Batesville, LLC.

Filed Date: 12/6/12.

Accession Number: 20121206-5069.

Comments Due: 5 p.m. ET 12/27/12.

Docket Numbers: ER10-3069-003; ER10-3070-003.

Applicants: Alcoa Power Generating Inc.

Description: Alcoa Power Marketing LLC, et al. submits Supplement to the June 29, 2012 and August 23, 2012 Updated Market Power Analysis.

Filed Date: 12/4/12.

Accession Number: 20121204-5167.

Comments Due: 5 p.m. ET 12/26/12.

Docket Numbers: ER12-1740-001.

Applicants: Rippey Wind Energy LLC.

Description: Notice of Non-Material Change in Status of Rippey Wind Energy LLC.

Filed Date: 12/6/12.

Accession Number: 20121206-5073.

Comments Due: 5 p.m. ET 12/27/12.

Docket Numbers: ER12-2698-001.

Applicants: Northern Maine Independent System Administrator, Inc.

Description: Northern Maine Independent System Administrator, Inc. submits tariff filing per 35.17(b): Response to Deficiency Letter to be effective 11/26/2012.

Filed Date: 12/6/12.

Accession Number: 20121206-5057.

Comments Due: 5 p.m. ET 12/27/12.

Docket Numbers: ER13-199-001.

Applicants: Mt. Poso Cogeneration Company, LLC.

Description: Mt. Poso Cogeneration Company, LLC submits tariff filing per 35.17(b): Revise Seller Regions, Add Docket Number and Title Page to be effective 10/29/2012.

Filed Date: 12/6/12.

Accession Number: 20121206-5086.

Comments Due: 5 p.m. ET 12/27/12.

Docket Numbers: ER13-515-001.

Applicants: Southwest Power Pool, Inc.

Description: Southwest Power Pool, Inc. submits tariff filing per 35.17(b): Errata Filing in Docket No. ER13-515—Attachment J, Section IV to be effective 2/4/2013.

Filed Date: 12/6/12.

Accession Number: 20121206-5044.

Comments Due: 5 p.m. ET 12/27/12.

Docket Numbers: ER13-518-000.

Applicants: Dominion Retail, Inc.

Description: New Baseline Refile to be effective 12/6/2012.

Filed Date: 12/5/12.

Accession Number: 20121205-5169.

Comments Due: 5 p.m. ET 12/26/12.

Docket Numbers: ER13-519-000.

Applicants: PJM Interconnection, L.L.C.

Description: PJM Interconnection, L.L.C. submits tariff filing per 35.13(a)(2)(iii: Revisions to PJM OA Sch 12 removing JD Renewable & Bridge Energy as PJM Members to be effective 12/31/9998.

Filed Date: 12/6/12.

Accession Number: 20121206-5045.

Comments Due: 5 p.m. ET 12/27/12.

Docket Numbers: ER13-520-000.

Applicants: Pinyon Pines Wind I, LLC.

Description: Pinyon Pines Wind I, LLC submits tariff filing per 35.13(a)(2)(iii: Notice of Succession to be effective 12/5/2012.

Filed Date: 12/6/12.

Accession Number: 20121206-5054.

Comments Due: 5 p.m. ET 12/27/12.

Docket Numbers: ER13-521-000.

Applicants: Pinyon Pines Wind II, LLC.

Description: Pinyon Pines Wind II, LLC submits tariff filing per 35.13(a)(2)(iii: Notice of Succession to be effective 12/5/2012.

Filed Date: 12/6/12.

Accession Number: 20121206-5055.

Comments Due: 5 p.m. ET 12/27/12.

Docket Numbers: ER13-522-000.

Applicants: Northern Indiana Public Service Company.

Description: Northern Indiana Public Service Company submits tariff filing per 35.13(a)(2)(iii: CIAC Agreement Under Wabash Valley Interconnection Agreement to be effective 12/7/2012.

Filed Date: 12/6/12.

Accession Number: 20121206-5103.

Comments Due: 5 p.m. ET 12/27/12.

Docket Numbers: ER13-523-000.

Applicants: Trans Bay Cable LLC.

Description: Trans Bay Cable LLC submits tariff filing per 35.13(a)(2)(iii: Annual TRBAA Update to be effective 1/1/2013.

Filed Date: 12/6/12.

Accession Number: 20121206-5106.

Comments Due: 5 p.m. ET 12/27/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2012.
Nathaniel J. Davis, Sr.,
Deputy Secretary.

[FR Doc. 2012-30282 Filed 12-14-12; 8:45 am]

BILLING CODE 6717-01-P